DEPARTMENT OF THE INTERIOR

Fish and Wildlife Service

DEPARTMENT OF COMMERCE

National Oceanic and Atmospheric Administration

50 CFR Part 402

[Docket No. FWS-HQ-ES-2018-0009; FXES11140900000-189-FF09E300000; Docket No. 180207140-8140-01; 4500090023]

RIN 1018-BC87; 0648-BH41

Endangered and Threatened Wildlife and Plants; Regulations for Interagency Cooperation

AGENCY: U.S. Fish and Wildlife Service, Interior; National Marine Fisheries Service, National Oceanic and Atmospheric Administration, Commerce.

ACTION: Final rule; delay of effective date.

SUMMARY: We, the U.S. Fish and Wildlife Service (FWS) and the National Marine Fisheries Service (NMFS) (collectively referred to as the “Services” or “we”), are delaying the effective date of a rule we published on August 27, 2019.

DATES: The effective date of the rule that published at 84 FR 44976, August 27, 2019, is delayed until October 28, 2019.

FOR FURTHER INFORMATION CONTACT: Gary Frazer, U.S. Fish and Wildlife Service, Department of the Interior, Washington, DC 20240, telephone 202/208-4646; or Samuel D. Rauch, III, National Marine Fisheries Service, Department of Commerce, 1315 East-West Highway, Silver Spring, MD 20910, telephone 301/427-8000. If you use a telecommunications device for the deaf (TDD), call the Federal Relay Service at 800/877-8339.

SUPPLEMENTARY INFORMATION: On August 27, 2019, we published a final rule to revise portions of our regulations that implement section 7 of the Endangered Species Act of 1973, as amended (“Act”; 16 U.S.C. 1531 et seq.). The revisions to the regulations clarify, interpret, and implement portions of the Act concerning the interagency cooperation procedures. The rule was to be effective on September 26, 2019.

Since the announcement of the final rule, we have conducted numerous informational webinars, meetings, and briefings for internal staff and external audiences, including hundreds of State, Federal, industry, and other conservation partners. During the course of these presentations, we have received many questions regarding implementation of the final rule. Additional time is needed to adequately educate and train staff of the Services and all of the affected Federal agencies on these interagency implementing regulations, which set forth requirements for both the Services and Federal action agencies. We are, therefore, delaying the effective date of the rule published on August 27, 2019, at 84 FR 44976 (see DATES, above) to ensure a smooth transition and allow for additional coordination and training prior to the final rule becoming effective.

Administrative Procedure Act

To the extent that 5 U.S.C. 553 applies to this action, it is exempt from notice and comment because it constitutes a rule of procedure under 5 U.S.C. 553(b)(A). Alternatively, our implementation of this action without opportunity for public comment, effective immediately upon publication in the Federal Register, is based on the good cause exceptions in 5 U.S.C. 553(b)(B) and 553(d)(3). Pursuant to 5 U.S.C. 553(b)(B), we have determined that good cause exists to forgo the requirement to provide prior notice and an opportunity for public comment thereon for this rule as such procedures would be impracticable, unnecessary, and contrary to the public interest. We are temporarily postponing the effective date of the rule (see DATES, above) to allow for additional time to coordinate with our internal staff and external partners. As a result, seeking public comment on this delay is unnecessary and contrary to the public interest. For these same reasons, we find good cause to waive the 30-day delay in effective date provided for in 5 U.S.C. 553(d).

Authority: 16 U.S.C. 1361-1407; 1531-1544; and 4201-4245, unless otherwise noted.

Dated: September 20, 2019.
Rob Wallace,
Assistant Secretary for Fish and Wildlife and Parks, Department of the Interior.
Dated: September 20, 2019.
Neil Jacobs,
Assistant Secretary of Commerce for Environmental Observation and Prediction, performing the duties of Under Secretary of Commerce for Oceans and Atmosphere, Department of Commerce.

[FR Doc. 2019-20936 Filed 9-24-19; 8:45 am]

BILLING CODE 4333-15-P